DEPARTMENT OF AGRICULTURE

Rural Utilities Service

Technical Assistance and Training Grant Program

AGENCY: Rural Utilities Service, USDA.

ACTION: Notice of Funding Announcement (NOFA) under the Technical Assistance and Training Grant Program.

SUMMARY: The Rural Utilities Service, an agency of the United State Department of Agriculture, announces an additional application window for Fiscal Year (FY) 2018 for the Technical Assistance and Training Grant Program (TAT). This Notice seeks applications emphasizing priorities for either a national water and wastewater infrastructure application assistance and project development program or a national apprenticeship/workforce development program.

DATES: Applications for the TAT grants will only be accepted electronically according to the following deadline:

Submit grant applications at https://www.grants.gov (Grants.gov) and follow the instructions found on that website. Electronic submissions of applications must be received by September 10, 2018 to be eligible for grant funding. Late or incomplete applications will not be eligible for grant funding. Prior to official submission of applications, applicants may request technical assistance or other application guidance from the Agency, if such requests are made prior to August 24, 2018. The Agency will not solicit or consider scoring or eligibility information that is submitted after the application deadline. The Agency reserves the right to contact applicants to seek clarification information on materials contained in the submitted application.

ADDRESSES: All grant applications must be submitted electronically at https://www.grants.gov/ (Grants.gov), following the instructions you find on that website. The FY 2018 Application Guide may be obtained from the Water and Waste Disposal Technical Assistance & Training Grants website at https://www.rd.usda.gov/programs-services/water-waste-disposal-technical-assistance-training-grants.

FOR FURTHER INFORMATION CONTACT: LaVonda Pernell, Community Program Specialist, Water Program Division, Rural Utilities Service, U.S. Department of Agriculture, by email at lavonda.pernell@wdc.usda.gov or by telephone: (202) 720-9635.

SUPPLEMENTARY INFORMATION:

Overview

Federal Agency: Rural Utilities Service (RUS).

Funding Opportunity Title: Technical Assistance and Training Grants (TAT).

Announcement Type: Funding Announcement/Solicitation of Applications.

Catalog of Federal Domestic Assistance (CFDA) Number: 10.761.

Dates: Completed TAT grant applications must be submitted electronically through Grants.gov no later than September 10, 2018 to be eligible for funding.

Overview

This Notice announces that the Rural Utilities Service (RUS) is accepting applications for an additional application window for the Technical Assistance and Training Grant Program (TAT). For FY 2018, RUS received a budget appropriation of $40 million for the TAT Program. In response to the application filing period of October 1, 2017, to December 31, 2017, as outlined in 7 CFR 1775, Subpart B, § 1775.10 (a), the Agency received 28 applications that will not use up all of the appropriation. This Notice will make available the remaining funds under the TAT Program, for either a national water and wastewater infrastructure application assistance and project development program or a national apprenticeship/workforce development program.

On March 23, 2018, President Donald Trump signed a $1.3 trillion spending bill with $21.2 billion for new infrastructure spending on transportation, energy and water projects in FY 2018. The intent of this notice is to advise the public of the funds available to support applications emphasizing either of two priorities for technical assistance and training activities. Applications may emphasize technical assistance and training activities to: Provide application assistance and project development that facilitate efforts by rural communities to access funding for water and wastewater infrastructure projects, particularly those communities in smaller, lower income, and persistent poverty areas; or to provide technical assistance and training to personnel to improve the management, operation, and maintenance of water and waste facilities through a national apprenticeship/workforce development program. The Agency encourages applications that will support recommendations made in the Rural Prosperity Task Force report to help improve life in rural America which can be found at www.usda.gov/ruralprosperity. Applicants are encouraged to consider projects that provide measurable results in helping rural communities build robust and sustainable economies through strategic investments in infrastructure, partnerships and innovation. Key strategies include:

• Achieving e-Connectivity for Rural America

• Developing the Rural Economy

• Harnessing Technological Innovation

• Supporting a Rural Workforce

• Improving Quality of Life

A. Program Description

The Rural Utilities Service (RUS) provides financial and technical assistance to help communities bring safe drinking water and sanitary, environmentally sound waste disposal facilities to rural Americans in greatest need. The additional funding provided for TAT grants will allow rural communities to better identify and evaluate solutions to water and waste disposal problems, assist applicants in preparing applications for water and waste loans and grants, and/or improve operation and maintenance of existing water and waste disposal facilities in rural areas. Qualified private non-profit organizations may apply.

B. Federal Award Information

Available funds for this funding opportunity will not exceed the $13,000,000.00 remaining from the $40 million in appropriated funds and additional program carryover funds. TAT grants will be awarded by September 30, 2018.

C. Eligibility Information

1. In accordance with 7 CFR 1775.35, an organization is eligible to receive a TAT grant if it:

a. Is a private, non-profit organization that has tax-exempt status from the U.S. Internal Revenue Service (IRS);

b. Is legally established and located within one of the following:

i. A State within the United States

ii. the District of Columbia

iii. the Commonwealth of Puerto Rico

iv. United States territory;

c. Has the legal capacity and authority to carry out the grant purpose and scope;

d. Has a proven record of successfully providing technical assistance and/or training to rural areas;

e. Has capitalization acceptable to the Agency;

f. Has no delinquent debt to the federal government or no outstanding judgments to repay a federal debt;

g. Demonstrates that it possesses the financial, technical, and managerial capability to comply with federal and State laws and requirements; and

h. Contracts with a nonaffiliated organization for not more than 49 percent of the grant to provide the proposed assistance.

2. Eligibility requirements for a project.

Qualified projects from an eligible applicant must provide technical assistance and training to RUS eligible water and sewer utilities in rural areas for application assistance and project development to achieve the objectives outlined in 7 CFR 1775.

D. Application and Submission Information

1. The FY 2018 Application Guide may be obtained from the Water and Waste Disposal Technical Assistance & Training Grants website at https://www.rd.usda.gov/programs-services/water-waste-disposal-technical-assistance-training-grants. Applicants must submit electronic applications at Grants.gov https://www.grants.gov.

2. Dun and Bradstreet Data Universal Numbering System (DUNS) and System for Awards Management (SAM) Grant applicants must obtain a Dun and Bradstreet Data Universal Numbering System (DUNS) number and register in the System for Award Management (SAM) prior to submitting an application pursuant to 2 CFR 25.200(b). In addition, an entity applicant must maintain registration in SAM at all times during which it has an active Federal award or an application or plan under consideration by the Agency. Similarly, all recipients of Federal financial assistance are required to report information about first-tier subawards and executive compensation in accordance to 2 CFR part 170. So long as an entity applicant does not have an exception under 2 CFR 170.110(b), the applicant must have the necessary processes and systems in place to comply with the reporting requirements should the applicant receive funding. See 2 CFR 170.200(b). An applicant, unless excepted under 2 CFR 25.110(b), (c), or (d), is required to:

a. Be registered in SAM before submitting its application;

b. Provide a valid DUNS number in its application; and

c. Continue to maintain an active SAM registration with current information at all times during which it has an active Federal award or an application or plan under consideration by a Federal awarding agency.

The Federal awarding agency may not make a federal award to an applicant until the applicant has complied with all applicable DUNS and SAM requirements and, if an applicant has not fully complied with the requirements by the time the Federal awarding agency is ready to make a Federal award, the Federal awarding agency may determine that the applicant is not qualified to receive a Federal award and use that determination as a basis for making a Federal award to another applicant. As required by the Office of Management and Budget (OMB), all grant applications must provide a DUNS number when applying for Federal grants, on or after October 1, 2003. Organizations can receive a DUNS number at no cost by calling the dedicated toll-free number at 1-866-705-5711 or via internet at http://fedgov.dnb.com/webform. Additional information concerning this requirement can be obtained on the Grants.gov website at http://www.grants.gov. Similarly, applicants may register for SAM at https://www.sam.gov or by calling 1-866-606-8220. The applicant must provide documentation that they are registered in SAM and their DUNS number. If the applicant does not provide documentation that they are registered in SAM and their DUNS number, the application will not be considered for funding.

You will need the following information when requesting a DUNS number:

a. Legal Name of the Applicant;

b. Headquarters name and address of the Applicant;

c. The names under which the Applicant is doing business as (dba) or other name by which the organization is commonly recognized;

d. Physical address of the Applicant;

e. Mailing address (if separate from headquarters and/or physical address) of the Applicant;

f. Telephone number;

g. Contact name and title; and

h. Number of employees at the physical location.

3. The application and any materials sent with it become Federal records by law and cannot be returned to you. RUS may request original signatures on electronically submitted documents later.

4. Content of Application:

a. To be considered for assistance, you must be an eligible entity and must submit a complete application by the deadline date. You must consult the cost principles and general administrative requirements for grants pertaining to their organizational type in order to prepare the budget and complete other parts of the application. You also must demonstrate compliance (or intent to comply), through certification or other means, with a number of public policy requirements as demonstrated in the forms below.

b. Applicants must complete and submit the following forms to apply for a Technical Assistance and Training grant:

i. Standard Form 424, “Application for Federal Assistance”.

ii. Standard Form 424A, “Budget Information—Non-Construction Programs”.

iii. Standard Form 424B, “Assurances—Non-Construction Programs”.

iv. Standard Form LLL, “Disclosure of Lobbying Activity”.

v. AD-3030, “Representations Regarding Felony Conviction and Tax Delinquent Status for Corporate Applicant”.

vi. AD-3031, “Assurance Regarding Felony Conviction or Tax Delinquent Status for Corporate Applicant”.

vii. Form RD 400-1, “Equal Opportunity Agreement”.

viii. Form RD 400-4, “Assurance Agreement (Under Title VI, Civil Rights Act of 1964).” (This assurance agreement requires the collection of race, color, national origin, and ethnicity data on program beneficiaries.)

ix. Indirect Cost Rate Agreement (if applicable, applicant must include approved cost agreement rate schedule).

x. In accordance with 7 CFR 1775, subpart A § 1775.5(j), applicants must certify there is no duplication with the National Forest-Dependent Rural Communities Economic Diversification Act of 1990 (7 U.S.C. 6613).

c. All applications shall be accompanied by the following supporting documentation in concise written narrative form:

i. Evidence of applicant's legal existence and authority.

ii. Evidence of tax exempt status from the Internal Revenue Service (IRS).

iii. A short statement of applicant's experience in providing services similar to those proposed.

iv. A brief description of successfully completed projects including the need that was identified, and objectives accomplished.

v. The latest financial information to show the applicant's financial capacity to carry out the proposed work.

vi. A list of proposed services to be provided.

vii. An estimated breakdown of costs (direct and indirect) including those to be funded by grantee as well as other sources. Sufficient detail should be provided to permit the approval official to determine reasonableness, applicability, and eligibility.

viii. Evidence that a Financial Management System is in place or proposed.

ix. A description of national reach and capability.

x. A description of the type of technical assistance and/or training to be provided and the tasks to be contracted.

xi. A clear explanation of how the proposed services differ from other similar services being provided in the same area and measures to be taken to avoid duplication of federal effort.

xii. Number of personnel on staff or to be contracted to provide the service and their experience with similar projects.

xiii. A statement indicating the maximum number of months it would take to complete the project.

xiv. Explanation of the cost effectiveness of project.

d. Applicants must also submit a flexible work plan/project proposal that will outline the project in sufficient detail to provide the readers with a clear understanding of how the proposed technical assistance and/or training will increase water and wastewater systems' access to funding for infrastructure projects; and/or increase water and wastewater systems' ability to recognize the need for updated or new infrastructure.

e. The applicant must provide evidence of compliance with other federal statutes, including but not limited to the following:

i. Debarment and suspension information is required in accordance with 2 CFR part 417 (Nonprocurement Debarment and Suspension) supplemented by 2 CFR part 180, if it applies. The section heading is “What information must I provide before entering into a covered transaction with the Federal Government?” located at 2 CFR 180.335. It is part of OMB's Guidance for Grants and Agreements concerning Government-wide Debarment and Suspension.

ii. All your organization's known workplaces by including the actual address of buildings (or parts of buildings) or other sites where work under the award takes place. Workplace identification is required under the drug-free workplace requirements in Subpart B of 2 CFR part 421, which adopts the Government-wide Drug-Free Workplace Act.

iii. 2 CFR parts 200 and 400 (Uniform Assistance Requirements, Cost Principles and Audit Requirements for Federal Awards).

iv. 2 CFR part 182 (Governmentwide Requirements for Drug-Free Workplace (Financial Assistance)) and 2 CFR part 421 (Requirements for Drug Free Workplace (Financial Assistance)).

v. Executive Order 13166, “Improving Access to Services for Persons with Limited English Proficiency.” For information on limited English proficiency and agency-specific guidance, go to http://www.LEP.gov.

E. Application Review Information

1. RUS will acknowledge the application's receipt by email to the applicant. The application will be reviewed for completeness to determine if it contains all of the items required. If the application is incomplete or ineligible, RUS will return it to the Applicant with an explanation. RUS reserves the right to request additional information once an application is determined to be complete to address application assistance and project development or workforce development needs that are known or anticipated at the time of evaluation or to minimize the risk of duplication of other federal efforts. The RUS grant offer to successful applicants will be based on the submitted application and may be more narrowly tailored than the submitted application to meet rural community needs at the time of the offer or over the course of the grant period.

2. A review team, composed of at least two members, will evaluate all applications and proposals. They will make overall recommendations based on factors such as eligibility, application completeness, and conformity to application requirements. They will score the applications based on criteria in paragraph C of this section.

3. All applications that are complete and eligible will be scored and ranked competitively. The categories for scoring criteria used are the following:

Scoring criteria | Points
Scope of Assistance (National or Multi-State) | Up to 15.
Degree of expertise | Up to 10.
Applicant Resources (staff and contract personnel) | Up to 10.
Goals/Objectives: Goals/objectives are clearly defined and tied to need, results and measurable outcomes | Up to 15.
Extent to which the work plan clearly articulates a well thought out approach to accomplishing objectives; and clearly defines how the applicant would respond to communities served by the TAT grant | Up to 40.
Financial Controls | Up to 5.
Type of technical assistance applicant is providing | Up to 20.
Project duration | Up to 5.
Administrator Discretion: RUS Administrator may provide additional points based on the following factors: Geographic, economic, or agency priority issues | Up to 15.

F. Federal Award Administration Information

1. RUS will rank all qualifying applications by their final score. Applications will be selected for funding based on the highest scores. The agency expects to award two grants under this notice. The agency reserves the right to make no grant awards if all applications are incomplete and/or score below 65 points. Each applicant will be notified via email of the agency's funding decision.

2. In making its decision about your application, RUS may determine that your application is:

a. Eligible and selected for funding;

b. Eligible and offered fewer funds than requested;

c. Eligible but not selected for funding; or

d. Ineligible for the grant.

3. Applicants selected for funding will complete a grant agreement suitable to RUS, which outlines the terms and conditions of the grant award. Pursuant to the grant agreement, grant funds may be released over the course of the grant period in reimbursement for the performance of eligible, approved activities which do not duplicate similar federal efforts or tasks. The grant agreement may also include reporting and pre-approval requirements consistent with 7 CFR part 1775 which if not met, may result in a delay in reimbursement, disallowance of expense or a suspension of the grant.

4. Grantees will be reimbursed as follows:

a. SF-270, “Request for Advance or Reimbursement,” will be completed by the grantee and submitted to either the State or National Office not more frequently than monthly.

b. Upon receipt of a properly completed SF-270, payment will ordinarily be made within 30 days.

5. Any change in the scope of the project, budget adjustments of more than 10 percent of the total budget, or any other significant change in the project must be reported to and approved by the approval official by written amendment to the Grant. Any change not approved may be cause for termination of the grant.

6. Rates Requirements.

All laborers, apprentices and mechanics employed by contractors and subcontractors on projects funded directly by or assisted in whole or in part by and through the Federal Government pursuant to this Act shall be paid wages at rates not less than those prevailing on projects of a character similar in the locality as determined by the Secretary of Labor in accordance with Title 40 United States Code, Subtitle II, Part A, chapter 31, subchapter IV, section 3141. Further details on eligible applicants and projects may be found in the relevant regulations listed in Section II.C.

7. Reporting Requirements.

a. Grantees shall constantly monitor performance to ensure that time schedules are being met, projected work by time periods is being accomplished, and other performance objectives are being achieved.

b. SF-269, “Financial Status Report (short form),” and a project performance activity report will be required of all grantees on a quarterly basis, due 30 days after the end of each quarter.

c. A final project performance report will be required with the last SF-269 due 90 days after the end of the last quarter in which the project is completed. The final report may serve as the last quarterly report.

d. All grantees are to submit an original of each report to the National Office. The project performance reports should detail, in a narrative format, activities that have transpired for the specific time period.

e. The grantee will provide an audit report or financial statements in accordance with Uniform Audit Requirements for Federal Awards at 2 CFR part 200, subpart F.

G. Federal Awarding Agency Contacts

A. Website: http://www.usda.gov/rus/water. RUS' website maintains up-to-date resources and contact information for TAT Grants program.

B. Phone: 202-720-9635.

C. Email: lavonda.pernell@wdc.usda.gov.

D. Main point of contact: LaVonda Pernell, Community Program Specialist, Water and Environmental Programs, Water Programs Division, Rural Utilities Service, U.S. Department of Agriculture.

H. Civil Rights

In accordance with Federal civil rights law and U.S. Department of Agriculture (USDA) civil rights regulations and policies, the USDA, its agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs).

Remedies and complaint filing deadlines vary by program or incident. Persons with disabilities who require alternative means of communication for program information (e.g., Braille, large print, audiotape, American Sign Language, etc.) should contact the responsible agency or USDA's TARGET Center at (202) 720-2600 (voice and TTY) or contact USDA through the Federal Relay Service at (800) 877-8339.

Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Stop 9410, Washington, DC 20250-9410; (2) Fax: (202) 690-7442; or (3) Email: program.intake@usda.gov. USDA is an equal opportunity provider, employer, and lender.

Dated: August 2, 2018.
Edna Primrose,
Acting Administrator, Rural Utilities Service.

[FR Doc. 2018-16997 Filed 8-8-18; 8:45 am]

BILLING CODE 3410-15-P